DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by August 18, 2025. Written comments and recommendations for the proposed information collection should be submitted, identified by docket number 0535-0264, within 30 days of the publication of this notice by any of the following methods:

• Email: ombofficer@nass.usda.gov. Include docket number above in the subject line of the message.

• E-fax: 855-838-6382.

• Mail: Mail any paper, disk, or CD-ROM submissions to: Brent Chittenden, NASS Clearance Officer, U.S. Department of Agriculture, Room 5336 South Building, 1400 Independence Avenue SW, Washington, DC 20250-2024.

• Hand Delivery/Courier: Hand deliver to: Brent Chittenden, NASS Clearance Officer, U.S. Department of Agriculture, Room 5336 South Building, 1400 Independence Avenue SW, Washington, DC 20250-2024.

An agency may not conduct or sponsor a collection of information unless the collection of information displays a currently valid OMB control number and the agency informs potential persons who are to respond to the collection of information that such persons are not required to respond to the collection of information unless it displays a currently valid OMB control number.

National Agricultural Statistics Service

Title: 2025 Area Screening Survey, a pilot study for the June Area Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS plans to conduct the 2025 Area Screening Survey, as a pilot study to support potential improvements and validate the methodology to the June Area Survey. The proof-of-concept and pilot study results will inform changes to the information collection approach and ensure the updated methodology is robust and effective. If successful, this initiative could lead to significant cost reductions and/or decreased respondent burden for the June Area Survey. The target population for the 2025 Area Screening Survey, a pilot study for the June Area Survey, comprises all tracts in Colorado, Illinois, New York, Oregon, and Texas. General authority for these data collection activities is granted under U.S.C. Title 7, Section 2204. The 2025 Area Screening Survey aimed at testing a new screening questionnaire for the June Area Survey under OMB Control Number 0535-0213.

Need and Use of the Information: The purpose of this pilot study to support potential improvements and validate the methodology for the June Area Survey. The proof-of-concept and pilot study results will inform changes to the information collection approach and ensure the updated methodology is robust and effective. By leveraging the data collected through the June Area Survey and the findings from the pilot study, NASS and other users ensure that agricultural practices and policies are based on accurate, reliable, and current data, which supports the operational, research, and policy needs of the agricultural community.

Description of Respondents: Farmers and Ranchers.

Number of Respondents: 12,000.

Frequency of Responses: Reporting: Once a year.

Total Burden Hours: 3,540.

Levi S. Harrell,
Departmental Information Collection Clearance Officer.

[FR Doc. 2025-13395 Filed 7-16-25; 8:45 am]

BILLING CODE 3410-20-P